DEPARTMENT OF AGRICULTURE

Submission for OMB Review; Comment Request

March 5, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 9, 2020 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Quality Control Review Schedule.

OMB Control Number: 0584-0299.

Summary of Collection: States agencies are required to perform Quality Control (QC) review for the Supplemental Nutrition Assistance Program (SNAP). The FNS-380-1, Quality Control Review Schedule is for State use to collect both QC data and case characteristics for SNAP and to serve as the comprehensive data entry form for SNAP QC reviews. The legislative basis for the operation of the QC system is provided by Section 16 of the Food and Nutrition Act of 2008, as amended.

Need and Use of the Information: The Food and Nutrition Service (FNS) will collect information to monitor and reduce errors, develop policy strategies, and analyze household characteristic data. In addition, FNS will use the data to determine sanctions and bonus payments based on error rate performance, and to estimate the impact of some program changes to SNAP participation and costs by analyzing the available household characteristic data.

Description of Respondents: State, Local and Tribal Government.

Number of Respondents: 53.

Frequency of Responses: 1,074.

Estimated Total Burden Hours: 49,118.

Food and Nutrition Service

Title: Supplemental Nutrition Assistance Program: State Options.

OMB Control Number: 0584-0496.

Summary of Collection: The Food, Conservation and Energy Act of 2008, Public Law 110-246, Section 4001-4002, amended the Food and Nutrition Act of 2008 to rename the Food Stamp Program the “Supplemental Nutrition Assistance Program (SNAP). The Act establishes SNAP as a means-tested program under which needy households may apply for and receive assistance to supplement their ability to purchase food. The Act specifies national eligibility standards utility allowance (SUAs) and imposes certain administrative requirements on State agencies in administering the program. The program is directly administered by State welfare agencies, which are responsible for determining the eligibility of applicant households and issuing benefits to those households entitled to benefits under the Act.

Need and Use of the Information: FNS will collect and approve information from State agencies on how the various SNAP develop, update, change and implement options will be determined for SUAs for household. The information collected will be used by FNS to establish quality control reviews, standards and self-employment costs.

Description of Respondents: State, Local or Tribal Government.

Number of Respondents: 53.

Frequency of Responses: Recordkeeping; Reporting: Annually.

Total Burden Hours: 746.

Ruth Brown,
Departmental Information Collection Clearance Officer.

[FR Doc. 2020-04839 Filed 3-9-20; 8:45 am]

BILLING CODE 3410-30-P